DEPARTMENT OF COMMERCE

National Oceanic and Atmospheric Administration

Requesting Nominations for the Marine Protected Areas Federal Advisory Committee; Notice of Public Meeting

AGENCY: National Marine Protected Areas Center, Office of National Marine Sanctuaries, National Ocean Service, National Oceanic and Atmospheric Administration, U.S. Department of Commerce.

ACTION: Notice and request for nominations and notice of public meeting.

SUMMARY: The Department of Commerce (Department) is seeking nominations for membership on the Marine Protected Areas Federal Advisory Committee (Committee). The Committee advises the Secretaries of Commerce and Interior on implementing Section 4 of Executive Order 13158, specifically on strategies and priorities for developing the national system of marine protected areas (MPAs) and on practical approaches to further enhance and expand protection of new and existing MPAs. Nominations are sought for highly qualified non-Federal scientists, resource managers, and people representing other interests or organizations involved with or affected by marine protected areas, including in the Great Lakes. Ten of the 20 members of the Committee have terms that expire November 15, 2016, and nominations are sought to fill these vacancies. Additionally, notice is hereby given of a Committee meeting to be held via webinar on Monday, October 3, 2016 from 3:00-5:30 p.m. ET. The Webinar is open to members of the public.

DATES:

Nominations: Nominations must be received before or on October 7, 2016.

Meeting: The Committee will convene a meeting via webinar on Monday, October 3, 2016 from 3:00-5:30 p.m. ET Webinars are open to the public and participants can dial in on a telephone for audio during the webinar. Additionally, participants who choose to use the webinar conference feature, in addition to a telephone, will also be able to view any presentations as they are being given. Members of the public that would like to participate in the meeting must to register in advance by Friday, September 30, 2016. These times and the agenda topics described below are subject to change. Refer to the following Web page for the most up-to-date meeting agenda: http://marineprotectedareas.noaa.gov/fac/meetings/.

ADDRESSES:

Nominations: Nominations should be sent to Nicole Capps at West Coast Region, Office of National Marine Sanctuaries, 99 Pacific Street, Suite 100 F, Monterey, CA, 93940, or Nicole.Capps@noaa.gov. Electronic submissions are acceptable.

Meeting: The meeting will be held via Web conference call. Register by contacting Nicole Capps at Nicole.Capps@noaa.gov or by telephone at (831) 647-6451. Webinar and teleconference capacity may be limited.

FOR FURTHER INFORMATION CONTACT: Lauren Wenzel, Designated Federal Officer, MPA FAC, National Marine Protected Areas Center, 1305 East West Highway, Silver Spring, Maryland 20910. (Phone: 240-533-0652, Fax: 301-713-3110); email: Lauren.Wenzel@noaa.gov; or visit the National MPA Center Web site at http://www.marineprotectedareas.noaa.gov).

SUPPLEMENTARY INFORMATION: Executive Order 13158 directed the Department of Commerce and the Department of the Interior to seek the expert advice and recommendations of non-federal scientists, resource managers, and other interested people and organizations through a Marine Protected Areas Federal Advisory Committee (Committee). The Committee was established in June 2003 and includes 20 members.

The Committee meets at least twice annually; meetings may be in person or via teleconference/webinar. Committee members serve one, four-year nonrenewable term. Members of the Committee are not compensated for their time, but their travel expenses associated with attending Committee meetings are reimbursed.

Nominations: Anyone is eligible to nominate and self-nominations will be accepted. Each nomination submission should include: (1) The nominee's full name, title, institutional affiliation, and contact information; (2) the nominee's area(s) of expertise; (3) a short description of his/her qualifications relative to the kinds of advice being solicited; and (4) a resume or CV not to exceed four pages in length. Nominations may choose to include letters of support (no more than three) describing the nominee's qualifications and interest in serving on the Committee. The intent is to select from the nominees; however, NOAA retains the prerogative to nominate people to the Committee that were not nominated through the process outlined in this Federal Register notice if it deems it is necessary to achieve the desired balance. Once selected, Committee members' names will be posted at: http://marineprotectedareas.noaa.gov/fac/.

Individuals seeking membership on the Committee should possess demonstrable expertise in a related field or represent a stakeholder interest in MPAs. Nominees will also be evaluated based on the following factors: Marine policy experience; leadership and organizational skills; region of country represented; and member demographics. The membership reflects the Department's commitment to attaining balance and diversity. The full text of the Committee charter and its current membership can be viewed at the Agency's Web page at http://marineprotectedareas.noaa.gov.

Meeting: The focus of the Committee's meeting will be to finalize and vote on subcommittee products focused on External Financing and Ecological Connectivity. Public comment will be accepted from 5:00-5:30 p.m. ET. The agenda, subject to change, will be posted at http://marineprotectedareas.noaa.gov/fac/meetings/.

Dated: August 8, 2016.
John Armor,
Acting Director, Office of National Marine Sanctuaries, National Ocean Service, National Oceanic and Atmospheric Administration.

[FR Doc. 2016-19952 Filed 8-19-16; 8:45 am]

BILLING CODE 3510-NK-P